DEPARTMENT OF ENERGY

Federal Energy Regulatory Commission

18 CFR Part 11

[Docket No. RM10-27-000]

Update of the Federal Energy Regulatory Commission's Fees Schedule for Annual Charges for the Use of Government Lands; Corrections

Date: August 5, 2010.

AGENCY: Federal Energy Regulatory Commission.

ACTION: Final rule: Correction and correcting amendments.

SUMMARY: On July 28, 2010, the Federal Energy Regulatory Commission published a rule updating its schedule of fees for the use of government lands. The yearly update was based on the most recent schedule of fees for the use of linear rights-of-way prepared by the United States Forest Service. This document makes a preamble correction to that document and amends the CFR to correct an error resulting from that document.

DATES: Effective Date: August 11, 2010.

FOR FURTHER INFORMATION CONTACT: Fannie Kingsberry, Division of Financial Services, Office of the Executive Director, Federal Energy Regulatory Commission, 888 First Street, NE., Washington, DC 20426, (202) 502-6108.

SUPPLEMENTARY INFORMATION: In FR Doc. 2010-18201, appearing on page 44094 in the Federal Register of Wednesday, July 28, 2010, make the following preamble correction:

On page 44094, in the center column, in the SUMMARY section, beginning on the fourteenth line, correct the date “October 1, 2010” to read “October 1, 2009”.

List of Subjects in 18 CFR Part 11

Electric power, Reporting and recordkeeping requirements.

In addition, the Commission corrects 18 CFR part 11 by making the following correcting amendment.

PART 11—ANNUAL CHARGES UNDER PART 1 OF THE FEDERAL POWER ACT

1. The authority citation for part 11 continues to read as follows:

Authority: 16 U.S.C. 791a-825r; 42 U.S.C. 7101-7352.

2. In Appendix A to Part 11, add the following footnotes to the end of the fee schedule table:

Appendix A to Part 11—Fee Schedule for FY 2010

State | County | (Fee/acre/yr)
* * * * * * *
* State-average Land and Building value used when no county-specific is available.
** Land areas to be determined.

Thomas R. Herlihy,
Executive Director, Office of the Executive Director.

[FR Doc. 2010-19717 Filed 8-10-10; 8:45 am]

BILLING CODE 6717-01-P